DEPARTMENT OF COMMERCE

International Trade Administration

[C-533-821]

Certain Hot-Rolled Carbon Steel Flat Products From India: Final Rescission of Countervailing Duty Administrative Review

AGENCY: Import Administration, International Trade Administration, Department of Commerce.

DATES: Effective Date: May 9, 2011.

FOR FURTHER INFORMATION CONTACT: Kristen Johnson, AD/CVD Operations, Office 3, Import Administration, International Trade Administration, U.S. Department of Commerce, 14th Street and Constitution Ave., NW., Room 4014, Washington, DC 20230, telephone: (202) 482-4793.

SUPPLEMENTARY INFORMATION:

Background

On December 1, 2010, the Department of Commerce (the Department) published a notice of opportunity to request an administrative review of the countervailing duty (CVD) order on certain hot-rolled carbon steel flat products from India. See Antidumping or Countervailing Duty Order, Finding, or Suspended Investigation; Opportunity To Request Administrative Review, 75 FR 74682 (December 1, 2010). On January 3, 2011, we received from United States Steel Corporation, a domestic producer of subject merchandise, a request for the Department to conduct an administrative review of Ispat Industries Limited (Ispat), for the period of review (POR) of January 1, 2010, through December 31, 2010.

On January 28, 2011, the Department published the notice of initiation of the administrative review of the CVD order covering Ispat for the period January 1, 2010, through December 31, 2010. See Initiation of Antidumping and Countervailing Duty Administrative Reviews, 76 FR 5137 (January 28, 2011). On February 4, 2011, Ispat notified the Department that it had no shipments of subject merchandise to the United States during the POR.¹

¹ This public document is available on the public file in the Department's Central Record Unit (CRU) located in room 7046 of the main Commerce building.

We conducted an internal customs data query on February 7, 2011.² We also issued a “no shipments inquiry” message to U.S. Customs and Border Protection (CBP), which posted the message on February 16, 2011.³ The results of the customs data query indicated that Ispat had no sales, shipments, or entries of subject merchandise to the United States during the POR. We did not receive any information from CBP contrary to Ispat's claim of no sales, shipments, or entries of subject merchandise to the United States during the POR.

² See Memorandum to the File from Kristen Johnson, Case Analyst, IA Operations, Office 3, regarding “Customs Data Query Results,” (February 8, 2011). A public version of this memorandum is available on the public file in the CRU.

³ See Message number 1047301, available at http://addcvd.cbp.gov.

On March 21, 2011, we published the notice of preliminary rescission of this CVD administrative review with respect to Ispat, and provided interested parties with 20 days to comment. See Certain Hot-Rolled Carbon Steel Flat Products from India: Preliminary Rescission of Countervailing Duty Administrative Review, 76 FR 15299 (March 21, 2011) (Preliminary Rescission). The Department received no comments on its intent to rescind the review.

Rescission of Review

Pursuant to 19 CFR 351.213(d)(3), the Department may rescind an administrative review, with respect to a particular exporter or producer, if the Secretary concludes that, during the period covered by the review, there were no entries, exports, or sales of the subject merchandise to the United States by that producer or exporter.

Based on our analysis of the shipment data, we determine that Ispat did not ship subject merchandise to the United States during the POR. Therefore, in accordance with 19 CFR 351.213(d)(3), and consistent with our practice,⁴ we are rescinding the review for Ispat. Since Ispat is the only producer/exporter for which a review was requested and initiated, we are also rescinding, in whole, the administrative review of this CVD order for the period January 1, 2010, through December 31, 2010. The Department intends to issue appropriate assessment instructions to CBP 15 days after the date of publication of this notice.

⁴ See, e.g., Welded Carbon Steel Standard Pipe and Tube from Turkey: Notice of Rescission of Countervailing Duty Administrative Review, In Part, 74 FR 47921 (September 18, 2009).

Notification Regarding Administrative Protective Order

This notice serves as a final reminder to parties subject to administrative protective order (APO) of their responsibility concerning the disposition of proprietary information disclosed under APO in accordance with 19 CFR 351.305(a)(3) of the Department's regulations, which continues to govern business proprietary information in this segment of the proceeding. Timely written notification of the return/destruction of APO materials or conversion to judicial protective order is hereby requested. Failure to comply with the regulations and the terms of an APO is a violation that is subject to sanction.

This notice is issued and published in accordance with sections 751(a)(1) and 777(i)(1) of the Tariff Act of 1930, as amended, and 19 CFR 351.213(d)(4).

Dated: May 4, 2011.
Christian Marsh,
Deputy Assistant Secretary for Antidumping and Countervailing Duty Operations.

[FR Doc. 2011-11259 Filed 5-6-11; 8:45 am]

BILLING CODE 3510-DS-P